DEPARTMENT OF ENERGY

Federal Energy Regulatory Commission

Combined Notice of Filings

Take notice that the Commission has received the following Natural Gas Pipeline Rate and Refund Report filings:

Filings Instituting Proceedings

Docket Numbers: PR13-57-000.

Applicants: Enable Oklahoma Intrastate Transmission, LLC.

Description: Tariff filing per 284.123/.224: Revised SOC Applicable to Transportation Services to be effective 8/16/2013.

Filed Date: 8/16/13.

Accession Number: 20130816-5089.

Comments Due: 5 p.m. ET 9/6/13.

Docket Numbers: PR13-58-000.

Applicants: Enable Oklahoma Intrastate Transmission, LLC.

Description: Tariff filing per 284.123/.224: Storage Statement of Operating Conditions to be effective 8/16/2013.

Filed Date: 8/16/13.

Accession Number: 20130816-5091.

Comments Due: 5 p.m. ET 9/6/13.

Docket Numbers: PR13-59-000.

Applicants: Enable Illinois Intrastate Transmission, LLC.

Description: Tariff filing per 284.123/.224: IIT Name Change Filing to be effective 8/16/2013.

Filed Date: 8/16/13.

Accession Number: 20130816-5134.

Comments Due: 5 p.m. ET 9/6/13.

Docket Numbers: PR13-60-000.

Applicants: Enable Illinois Intrastate Transmission, LLC.

Description: Tariff filing per 284.123/.224: Cancellation of SOC to be effective 8/16/2013.

Filed Date: 8/16/13.

Accession Number: 20130816-5142.

Comments Due: 5 p.m. ET 9/6/13.

Docket Numbers: RP13-1263-000.

Applicants: Natural Gas Pipeline Company of America.

Description: Tenaska Negotiated Rate LPS RO to be effective 8/22/2013.

Filed Date: 8/22/13.

Accession Number: 20130822-5035.

Comments Due: 5 p.m. ET 9/3/13.

Docket Numbers: RP13-1264-000.

Applicants: Natural Gas Pipeline Company of America.

Description: Tenaska LPS RO to be effective 8/22/2013.

Filed Date: 8/22/13.

Accession Number: 20130822-5050.

Comments Due: 5 p.m. ET 9/3/13.

Docket Numbers: RP13-1265-000.

Applicants: Natural Gas Pipeline Company of America.

Description: Macquarie Negotiated Rate LPS RO to be effective 8/22/2013.

Filed Date: 8/22/13.

Accession Number: 20130822-5075.

Comments Due: 5 p.m. ET 9/3/13.

Docket Numbers: RP13-1266-000.

Applicants: Portland Natural Gas Transmission System.

Description: Contractual ROFR to be effective 9/23/2013.

Filed Date: 8/23/13.

Accession Number: 20130823-5017.

Comments Due: 5 p.m. ET 9/4/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1254-001.

Applicants: Enable Gas Transmission, LLC.

Description: Name Change Filing Amendment to be effective 8/16/2013.

Filed Date: 8/22/13.

Accession Number: 20130822-5116.

Comments Due: 5 p.m. ET 9/3/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2013.
Nathaniel J. Davis, Sr.,
Deputy Secretary.

[FR Doc. 2013-21081 Filed 8-28-13; 8:45 am]

BILLING CODE 6717-01-P